FEDERAL COMMUNICATIONS COMMISSION

47 CFR Part 51

[GN Docket No. 13-5, RM-11358; WC Docket No. 05-25, RM-10593; FCC 15-97]

Technology Transitions, Policies and Rules Governing Retirement of Copper Loops by Incumbent Local Exchange Carriers and Special Access for Price Cap Local Exchange Carriers; Correction

AGENCY: Federal Communications Commission.

ACTION: Final rule, announcement of effective date; correction.

SUMMARY: The Federal Communications Commission published a document in the Federal Register of March 24, 2016 announcing that the Office of Management and Budget (OMB) has approved, for a period of three years, the information collection requirements. This document corrections the DATES section.

DATES: The amendments to 47 CFR 51.325(a)(4) and (e), 51.332, and 51.333(b) and (c) published at 80 FR 63322, October 19, 2015, are effective on March 24, 2016. The removal of 47 CFR 51.331(c) and 51.333(f) is effective on March 30, 2016.

FOR FURTHER INFORMATION CONTACT: Michele Levy Berlove, Attorney Advisor, Wireline Competition Bureau, at 202-418-1477, or by email at michele.berlove@fcc.gov.

SUPPLEMENTARY INFORMATION: The Federal Communications Commission published a document in the Federal Register of March 24, 2016 (81 FR 15647) announcing that the Office of Management and Budget (OMB) has approved, for a period of three years, the information collection associated with the Commission's network change disclosure rules pertaining to copper retirement notices. That document omitted the removal of 47 CFR 51.331(c) and 51.333(f) as effective rules.

In FR Doc. 2016-06683, published on March 24, 2016 on pages 15647-48, in the third and first columns respectively of those pages, correct the DATES caption to read:

DATES: The amendments to 47 CFR 51.325(a)(4) and (e), 51.332, and 51.333(b) and (c) published at 80 FR 63322, October 19, 2015, are effective on March 24, 2016. The removal of 47 CFR 51.331(c) and 51.333(f) is effective on March 30, 2016.

Federal Communications Commission.
Gloria J. Miles,
Federal Register Liaison Officer. Office of the Secretary.

[FR Doc. 2016-07147 Filed 3-29-16; 8:45 am]

BILLING CODE 6712-01-P